DEPARTMENT OF THE INTERIOR

Bureau of Land Management

[CO-01-134-1610-241A]

Colorado Canyons National Conservation Area Advisory Council Field Trips

AGENCY: Bureau of Land Management, Interior

ACTION: Notice of Colorado Canyons National Conservation Area Advisory Council field trips.

SUMMARY: The Colorado Canyons National Conservation Area (CCNCA) Advisory Council will conduct field trips into the CCNCA on July 23 and 26; August 3, 17 and 31; and September 7 and 21, 2002. All participants will meet at the BLM Office located at 2815 H Road, Grand Junction, Colorado at 8 a.m. except on August 3, 2002, when participants will meet at the BLM Office at 7:30 a.m.

DATES: The trips will be conducted on July 23 and July 26; August 3, 17, and 31; and September 7 and 21, 2002.

ADDRESSES: For further information or to provide written comments, please contact Greg Gnesios, Bureau of Land Management (BLM), 2815 H Road, Grand Junction, Colorado 81506; telephone (970) 244-3049 or e-mail Gregory_Gnesios@co.blm.gov.

SUPPLEMENTARY INFORMATION: The CCNCA Advisory Council will accompany field personnel from the Grand Junction Bureau of Land Management Office on informational trips into the Colorado Canyons National Conservation Area and the Black Ridge Canyons Wilderness. The trips will allow Advisory Council members to familiarize themselves with the CCNCA, analyze relevant issues, and cross-feed information on concerns identified to date through public scoping, working groups, and Advisory Council meetings.

On Friday July 26, 2002, all participants will meet at the BLM Office located at 2815 H Road, Grand Junction, Colorado 81501, before 8 a.m. Departure from the BLM office will be at 8 a.m. The groups will tour the Wilderness Front Country, Rabbit Valley, and Mack Ridge areas of the CCNCA.

On Saturday, August 3, 2002, all participants will meet at the BLM Office located at 2815 H Road, Grand Junction, Colorado 81501, before 7:30 a.m. Groups will depart from the BLM office at 7:30 a.m. and will tour the Colorado River Corridor, starting at the Loma Boat Launch and ending in Westwater, Utah.

On Saturday, August 17, 2002, all participants will meet at the BLM Office located at 2815 H Road, Grand Junction, Colorado 81501, before 8 a.m. Groups will depart from the BLM office at 8 a.m. The groups will tour the Glade Park area and the Wilderness.

The remaining dates of July 23, August 31 and September 7 and 21, 2002, will be used to address other issues as appropriate. All participants will meet at the BLM Office located at 2815 H Road, Grand Junction, Colorado 81501, before 8 a.m. Groups will depart from the BLM office at 8 a.m.

Topics of discussion on all trips will include travel management, recreation, land health assessments, use authorizations, natural resource management, wilderness stewardship, education, cultural resources, wildlife, partnerships, interpretation, adaptive management, and socioeconomics. All tours will be open to the public. For information on the field trips contact Jane Ross at (970) 244-3027, 2815 H Road, Grand Junction, Colorado 81506, or e-mail to Jane_Ross@blm.gov.

Dated: June 5, 2002.
Gene S. Arnesen,
Acting Colorado Canyons National Conservation Area Manager.

[FR Doc. 02-17347 Filed 7-9-02; 8:45 am]

BILLING CODE 4310-JB-P